NUCLEAR REGULATORY COMMISSION

[NRC-2015-0211]

Instrumentation and Controls

AGENCY: Nuclear Regulatory Commission.

ACTION: Standard review plan-draft section revision; request for comment.

SUMMARY: The U.S. Nuclear Regulatory Commission (NRC) is soliciting public comments on proposed changes to the “Standard Review Plan for the Review of Safety Analysis Reports for Nuclear Power Plants: LWR Edition,” (NUREG-0800) for changes to 33 individual sections of Chapter 7, “Instrumentation and Controls,” as listed in the table in Section IV of this notice entitled, Availability of Documents.

DATES: Comments must be filed no later than November 16, 2015. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2015-0211. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H8, U.S. Nuclear Regulatory Commission, Washington, DC 20555-0001.

For additional direction on accessing information and submitting comments, see “Obtaining Information and Submitting Comments” in the SUPPLEMENTARY INFORMATION section of this document.

FOR FURTHER INFORMATION CONTACT: Michael S. Jones, Office of New Reactors, U.S. Nuclear Regulatory Commission, Washington, DC 20555-0001; telephone: 301-415-0189, email: Michael.Jones2@nrc.gov.

SUPPLEMENTARY INFORMATION:

I. Obtaining Information and Submitting Comments

A. Obtaining Information

Please refer to Docket ID NRC-2015-0211 when contacting the NRC about the availability of information regarding this document. You may obtain publicly-available information related to this action by the following methods:

• Federal Rulemaking Web site: Go to http://www.regulations.gov and search for Docket ID NRC-2015-0211.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. In addition, for the convenience of the reader, instructions about accessing materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2015-0211 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The NRC seeks public comment on the proposed draft revisions of Standard Review Plan (SRP) sections of Chapter 7 listed above. These sections have been developed to assist the NRC staff review the design of instrumentation and controls and auxiliary systems under parts 50 and 52 of Title 10 of the Code of Federal Regulations (10 CFR). The revisions to these SRP sections reflect no changes in staff position; rather they clarify the original intent of these SRP sections using plain language throughout in accordance with the NRC's Plain Writing Action Plan. Additionally, these revisions reflect operating experience, lessons learned, updates to NRC guidance, and address the applicability of regulatory treatment of non-safety systems, where appropriate.

Following the NRC staff's evaluation of public comments, the NRC intends to finalize the proposed revisions of the subject SRP Sections in ADAMS and post them on the NRC's public Web site at http://www.nrc.gov/reading-rm/doc-collections/nuregs/staff/sr0800/. The SRP is guidance for the NRC staff. The SRP is not a substitute for the NRC regulations, and compliance with the SRP is not required.

III. Backfitting and Issue Finality

Issuance of these draft SRP sections, if finalized, would not constitute backfitting as defined in 10 CFR 50.109 (the Backfit Rule) or otherwise be inconsistent with the issue finality provisions in 10 CFR part 52. The NRC's position is based upon the following considerations:

1. The draft SRP positions, if finalized, would not constitute backfitting, inasmuch as the SRP is internal guidance to NRC staff.

The SRP provides internal guidance to the NRC staff on how to review an application for NRC regulatory approval in the form of licensing. Changes in internal staff guidance are not matters for which either nuclear power plant applicants or licensees are protected under either the Backfit Rule or the issue finality provisions of 10 CFR part 52.

2. The NRC staff has no intention to impose the SRP positions on existing licensees either now or in the future.

The NRC staff does not intend to impose or apply the positions described in the draft SRP to existing licenses and regulatory approvals. Hence, the issuance of a final SRP—even if considered guidance within the purview of the issue finality provisions in 10 CFR part 52—would not need to be evaluated as if it were a backfit or as being inconsistent with issue finality provisions. If, in the future, the NRC staff seeks to impose a position in the SRP on holders of already issued licenses in a manner that does not provide issue finality as described in the applicable issue finality provision, then the staff must make the showing as set forth in the Backfit Rule or address the criteria for avoiding issue finality as described in the applicable issue finality provision.

3. Backfitting and issue finality do not—with limited exceptions not applicable here—protect current or future applicants.

Applicants and potential applicants are not, with certain exceptions, protected by either the Backfit Rule or any issue finality provisions under 10 CFR part 52. Neither the Backfit Rule nor the issue finality provisions under 10 CFR part 52—with certain exclusions—were intended to apply to every NRC action that substantially changes the expectations of current and future applicants. The exceptions to the general principle are applicable whenever an applicant references a 10 CFR part 52 license (e.g., an early site permit) and/or NRC regulatory approval (e.g., a design certification rule) with specified issue finality provisions. The NRC staff does not, at this time, intend to impose the positions represented in the draft SRP in a manner that is inconsistent with any issue finality provisions. If, in the future, the staff seeks to impose a position in the draft SRP in a manner that does not provide issue finality as described in the applicable issue finality provision, then the staff must address the criteria for avoiding issue finality as described in the applicable issue finality provision.

IV. Availability of Documents

The documents identified in Table 1 below are available to interested persons through one or more of the following methods, as indicated.

Table 1—Standard Review Plan (SRP) Chapter 7 Sections Being Revised
SRP Section | Current revision ADAMS Accession No. | Proposed revision ADAMS Accession No. | Redline ADAMS Accession No.
SRP 7.0, “Instrumentation and Controls—Overview of Review Process” | Revision 6, ML100740146 | Revision 7, ML15159B042 | ML14303A149
SRP 7.1, “Instrumentation and Controls—Introduction” | Revision 5, ML070550076 | Revision 6, ML15159B068 | ML14303A153
Table 7-1, “Table 7-1 Regulatory Requirements, Acceptance Criteria, and Guidelines for Instrumentation and Control Systems Important to Safety” | Revision 5, ML070460342 | Revision 6, ML15159B203 | ML14303A447
SRP 7.2, “Reactor Trip System” | Revision 5, ML070550083 | Revision 6, ML15159B086 | ML14303A403
SRP 7.3, “Engineered Safety Features Systems” | Revision 5, ML070560004 | Revision 6, ML15159B099 | ML14303A408
SRP 7.4, “Safe Shutdown Systems” | Revision 5, ML070550085 | Revision 6, ML15159B122 | ML14303A411
SRP 7.5, “Information Systems Important to Safety” | Revision 5, ML070550086 | Revision 6, ML15159B138 | ML14303A413
SRP 7.6, “Interlock Systems Important to Safety” | Revision 5, ML070460348 | Revision 6, ML15159B156 | ML14303A416
SRP 7.7, “Control Systems” | Revision 5, ML070670042 | Revision 6, ML15159B161 | ML14303A428
SRP 7.8, “Diverse Instrumentation and Control Systems” | Revision 5, ML070650035 | Revision 6, ML15159B171 | ML14303A432
SRP 7.9, “Data Communication Systems” | Revision 5, ML070650036 | Revision 6, ML15159B177 | ML14303A435
App. 7.0-A, “Review Process for Digital Instrumentation and Control Systems” | Revision 5, ML070660258 | Revision 6, ML15159A199 | ML14302A297
App. 7.1-A, “Acceptance Criteria and Guidelines for Instrumentation and Controls Systems Important to Safety” | Revision 5, ML070660170 | Revision 6, ML15159A207 | ML14302A299
App. 7.1-B, “Guidance for Evaluation of Conformance to IEEE Std 279” | Revision 5, ML070550087 | Revision 6, ML15159A226 | ML14302A300
App. 7.1-C, “Guidance for Evaluation of Conformance to IEEE Std 603” | Revision 5, ML070550088 | Revision 6, ML15159A337 | ML14302A303
App. 7.1-D, “Guidance for Evaluation of the Application of IEEE Std 7-4.3.2” | Initial Issuance, ML070660327 | Revision 1, ML15159A491 | ML14302A309
BTP 7-1, “Guidance on Isolation of Low-Pressure Systems from the High-Pressure Reactor Coolant System” | Revision 5, ML070460345 | Revision 6, ML15159A540 | ML14302A385
BTP 7-2, “Guidance on Requirements of Motor-Operated Valves in the Emergency Core Cooling System Accumulator Lines” | Revision 5, ML070550090 | Revision 6, ML15159A592 | ML14302A459
BTP 7-3, “Guidance on Protection System Trip Point Changes for Operation with Reactor Coolant Pumps Out of Service” | Revision 5, ML070550091 | Revision 6, ML15159A638 | ML14303A079
BTP 7-4, “Guidance on Design Criteria for Auxiliary Feedwater Systems” | Revision 5, ML070550093 | Revision 6, ML15159A672 | ML14303A088
BTP 7-5, “Guidance on Spurious Withdrawals of Single Control Rods in Pressurized Water Reactors” | Revision 5, ML070550094 | Revision 6, ML15159A681 | ML14303A109
BTP 7-6, “Guidance on Design of Instrumentation and Controls Provided to Accomplish Changeover from Injection to Recirculation Mode” | Revision 5, ML070550095 | Revision 6, ML15209A319 | ML15209A455
BTP 7-8, “Guidance for Application of Regulatory Guide 1.22” | Revision 5, ML070550096 | Revision 6, ML15159A699 | ML14303A143
BTP 7-9, “Guidance on Requirements for Reactor Protection System Anticipatory Trips” | Revision 5, ML070550084 | Revision 6, ML15209A459 | ML15209A571
BTP 7-10, “Guidance on Application of Regulatory Guide 1.97” | Revision 5, ML070550082 | Revision 6, ML15159A726 | ML14302A397
BTP 7-11, “Guidance on Application and Qualification of Isolation Devices” | Revision 5, ML070550080 | Revision 6, ML15159A769 | ML14302A401
BTP 7-12, “Guidance on Establishing and Maintaining Instrument Setpoints” | Revision 5, ML070550078 | Revision 6, ML15159A799 | ML14302A404
BTP 7-13, “Guidance on Cross-Calibration of Protection System Resistance Temperature Detectors” | Revision 5, ML070550077 | Revision 6, ML15159A809 | ML14302A410
BTP 7-14, “Guidance on Software Reviews for Digital Computer-Based Instrumentation and Control Systems” | Revision 5, ML070670183 | Revision 6, ML15159A946 | ML14302A467
BTP 7-17, “Guidance on Self-Test and Surveillance Test Provisions” | Revision 5, ML070550075 | Revision 6, ML15159A959 | ML14302A477
BTP 7-18, “Guidance on the Use of Programmable Logic Controllers in Digital Computer-Based Instrumentation and Control Systems” | Revision 5, ML070550073 | Revision 6, ML15159A982 | ML14302A488
BTP 7-19, “Guidance for Evaluation of Diversity and Defense-in-Depth in Digital Computer-Based Instrumentation and Control Systems” | Revision 6, ML110550791 | Revision 7, ML15159A996 | ML14302A495
BTP 7-21, “Guidance on Digital Computer Real-Time Performance” | Revision 5, ML070550070 | Revision 6, ML15159B011 | ML14303A112

The NRC may post materials related to these documents, including public comments, on the Federal rulemaking Web site at http://www.regulations.gov under Docket ID NRC-2015-0211. The Federal rulemaking Web site allows you to receive alerts when changes or additions occur in a docket folder. To subscribe: (1) Navigate to the docket folder (NRC-2015-0211); (2) click the “Sign up for Email Alerts” link; and (3) enter your email address and select how frequently you would like to receive emails (daily, weekly, or monthly).

Dated at Rockville, Maryland, this 3rd day of September, 2015.
For the Nuclear Regulatory Commission.
Kimyata Morgan Butler,
Acting Chief, New Reactor Rulemaking and Guidance Branch, Division of Advanced Reactors and Rulemaking, Office of New Reactors.

[FR Doc. 2015-23185 Filed 9-15-15; 8:45 am]

BILLING CODE 7590-01-P